DEPARTMENT OF ENERGY

Federal Energy Regulatory Commission

Combined Notice of Filings #1

Take notice that the Commission received the following electric corporate filings:

Docket Numbers: EC15-3-000.

Applicants: Sabine Cogen, LP.

Description: Application for Authorization under FPA Section 203 of Sabine Cogen, LP.

Filed Date: 10/7/14.

Accession Number: 20141007-5035.

Comments Due: 5 p.m. ET 10/28/14.

Take notice that the Commission received the following electric rate filings:

Docket Numbers: ER10-1511-005; ER10-2231-004; ER10-1714-005; ER10-2011-005.

Applicants: Louisville Gas & Electric Company, Kentucky Utilities Company, LG&E Energy Marketing Inc., PPL EnergyPlus LLC.

Description: Supplement to June 30, 2014 Triennial Market Power Update of the PPL Southeast Companies.

Filed Date: 10/2/14.

Accession Number: 20141002-5180.

Comments Due: 5 p.m. ET 10/23/14.

Docket Numbers: ER10-1942-008; ER10-2042-011; ER10-1941-004; ER11-3840-002; ER10-1938-006; ER10-1937-004; ER13-1407-001; ER10-1898-005; ER10-1934-005; ER10-1893-005; ER10-1888-004; ER10-1885-004; ER10-1884-004; ER10-1883-004; ER10-1878-004; ER10-1876-004; ER10-1875-004; ER10-1873-004; ER12-1987-002; ER10-1947-004; ER10-1864-004; ER10-1867-004; ER10-1862-005; ER12-2261-002; ER10-1865-004.

Applicants: Calpine Construction Finance Company, LP, Calpine Energy Services, L.P., Calpine Gilroy Cogen, L.P., Calpine Greenleaf, Inc., Calpine Power America—CA, LLC, Calpine Power America—OR, LLC,CCFC Sutter Energy, LLC,CES Marketing V, L.P.,CES Marketing X, LLC, Creed Energy Center, LLC, Goose Haven Energy Center, LLC, Gilroy Energy Center, LLC, Los Medanos Energy Center, LLC, Metcalf Energy Center, LLC, Geysers Power Company LLC, Otay Mesa Energy Center, LLC, Pastoria Energy Center, LLC,PCF2, LLC, Delta Energy Center, LLC,OLS ENERGY AGNEWS, South Point Energy Center, LLC, Los Esteros Critical Energy Facility LLC,POWER CONTRACT FINANCE, LLC, Russell City Energy Company, LLC.

Description: Supplement to July 1, 2013 Updated Market Power Analysis for the Southwest Region of the Calpine Corporation subsidiaries.

Filed Date: 10/7/14.

Accession Number: 20141007-5018.

Comments Due: 5 p.m. ET 10/28/14.

Docket Numbers: ER13-342-005.

Applicants: CPV Shore, LLC.

Description: Supplement to September 10, 2014 Notice of Non-Material Change in Status of CPV Shore, LLC [only].

Filed Date: 10/6/14.

Accession Number: 20141006-5098.

Comments Due: 5 p.m. ET 10/27/14.

Docket Numbers: ER13-343-003.

Applicants: CPV Maryland, LLC.

Description: Supplement to September 8, 2014 Notice of Change in Status of CPV Maryland, LLC.

Filed Date: 10/6/14.

Accession Number: 20141006-5138.

Comments Due: 5 p.m. ET 10/27/14.

Docket Numbers: ER14-2977-000.

Applicants: TC Ravenswood, LLC.

Description: Supplement to September 30, 2014 TC Ravenswood, LLC tariff filing.

Filed Date: 10/3/14.

Accession Number: 20141003-5242.

Comments Due: 5 p.m. ET 10/24/14.

Docket Numbers: ER15-48-000.

Applicants: PJM Interconnection, L.L.C.

Description: § 205(d) rate filing per 35.13(a)(2)(iii): Original Service Agreement No. 3968; Queue T94 to be effective 9/5/2014.

Filed Date: 10/6/14.

Accession Number: 20141006-5142.

Comments Due: 5 p.m. ET 10/27/14.

Docket Numbers: ER15-49-000.

Applicants: PJM Interconnection, L.L.C.

Description: § 205(d) rate filing per 35.13(a)(2)(iii): First Revised Service Agreement No. 3644; Queue No. Y2-018 to be effective 9/5/2014.

Filed Date: 10/6/14.

Accession Number: 20141006-5145.

Comments Due: 5 p.m. ET 10/27/14.

Docket Numbers: ER15-50-000.

Applicants: California Independent System Operator Corporation.

Description: § 205(d) rate filing per 35.13(a)(2)(iii): 2014-10-06_FlexiRampConstraintParameter to be effective 1/15/2015.

Filed Date: 10/6/14.

Accession Number: 20141006-5150.

Comments Due: 5 p.m. ET 10/27/14.

Docket Numbers: ER15-51-000.

Applicants: Sierra Pacific Power Company.

Description: § 205(d) rate filing per 35.13(a)(2)(i): Rate Schedule No. 27—Annual BPA-GTA Update 2014 to be effective 10/31/2014.

Filed Date: 10/6/14.

Accession Number: 20141006-5169.

Comments Due: 5 p.m. ET 10/27/14.

Docket Numbers: ER15-52-000.

Applicants: Midcontinent Independent System Operator, Inc.

Description: § 205(d) rate filing per 35.13(a)(2)(iii): 2014-10-03_GVTC Clean up filing to be effective 12/6/2014.

Filed Date: 10/6/14.

Accession Number: 20141006-5173.

Comments Due: 5 p.m. ET 10/27/14.

Docket Numbers: ER15-53-000.

Applicants: Southern California Edison Company.

Description: § 205(d) rate filing per 35.13(a)(2)(iii): Letter Agreement with RE Garland, LLC to be effective 10/1/2014.

Filed Date: 10/7/14.

Accession Number: 20141007-5002.

Comments Due: 5 p.m. ET 10/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 7, 2014.
Nathaniel J. Davis, Sr.,
Deputy Secretary.

[FR Doc. 2014-24561 Filed 10-15-14; 8:45 am]

BILLING CODE 6717-01-P